DEPARTMENT OF THE INTERIOR

Bureau of Land Management

[NMNM-103686]

Notice of Application for Withdrawal Extension and Opportunity for Public Meeting, Davenport Electronic Site; New Mexico

AGENCY: Bureau of Land Management, Interior.

ACTION: Notice of withdrawal application.

SUMMARY: On behalf of the United States Department of Agriculture, the United States Forest Service (USFS) filed an application with the Bureau of Land Management (BLM) requesting that the Secretary of the Interior extend Public Land Order (PLO) No. 7593 for an additional 20-year term. PLO No. 7593 withdrew 80 acres of National Forest System land in Catron County, New Mexico, from location and entry under the United States mining laws, subject to valid existing rights, to protect the Davenport Electronic Site for a period of 20 years. The withdrawal created by PLO No. 7593 will expire on January 27, 2024, unless extended. This notice announces to the public an opportunity to comment on the withdrawal extension application and to request a public meeting.

DATES: Comments and requests for a public meeting regarding the withdrawal extension application must be received by December 18, 2023.

ADDRESSES: All written comments and meeting requests should be sent to the Cibola National Forest Supervisor's Office, Attn: Richard Wilhelm, 2113 Osuna, NE, Albuquerque, NM 87113.

FOR FURTHER INFORMATION CONTACT: Carol Harris, BLM Socorro Field Office Realty Specialist by phone at 575-838-1298 or email at caharris@blm.gov or Richard Wilhelm by phone at 505-346-3842 or by email at richard.wilhelm@usda.gov.

Individuals in the United States who are deaf, deafblind, hard of hearing, or have a speech disability may dial 711 (TTY, TDD, or Tele Braille) to access telecommunications relay services. Individuals outside the United States should use the relay services offered within their country to make international calls to the point-of-contact in the United States.

SUPPLEMENTARY INFORMATION: The purpose of the requested extension is to protect the 80-acre Davenport Electronic Site within the Cibola National Forest as originally authorized under PLO No. 7593 (69 FR 4172), for an additional 20-year term. This application affects the following National Forest System land:

New Mexico Principal Meridian

T. 1 N., R. 10 W.,

Sec. 29, S1/2NW¼.

The area described contains 80 acres.

The use of a rights-of-way, interagency agreement, or cooperative agreement would not provide adequate protection for this site.

There are no suitable alternative sites available which would facilitate this type of research.

No water rights will be needed to fulfill the purpose of the requested withdrawal.

Notice is hereby given that the opportunity for a public meeting is afforded in connection with the withdrawal application. All interested persons who wish to submit comments, suggestions, or objections in connection with the withdrawal extension application, or to request a public meeting, may submit a written request to the Regional Forester by December 18, 2023, at the address in the ADDRESSES section above. If the Authorized Officer determines that a public meeting will be held, the BLM will publish a notice of the location, time, and place in the Federal Register and in a local newspaper at least 30 days before the scheduled date of the meeting. Before including your address, phone number, email address, or other personal identifying information in your comment, be advised that your entire comment—including your personal identifying information—may be made publicly available at any time. While you may ask the BLM in your comment to withhold from your personal identifying information from the public review, we cannot guarantee that we will be able to do so.

This application will be processed in accordance with the regulations set-forth in 43 CFR 2310.4.

Authority: 43 U.S.C. 1714.

Melanie G. Barnes,
State Director.

[FR Doc. 2023-20121 Filed 9-15-23; 8:45 am]

BILLING CODE 4311-15-P